SMALL BUSINESS ADMINISTRATION

North Florida District Advisory Council; Public Meeting

The U.S. Small Business Administration, North Florida District Advisory Council will host a public meeting on Thursday, August 10, 2006. The meeting will be located at DEI Services, Inc., 7213 Sandscove Court, Suite One, Winter Park, FL 32792. The purpose of the meeting is to discuss SBA loan reports and the status on goals for FY 2006.

Anyone wishing to make an oral presentation to the Board must contact Wilfredo J. Gonzalez, District Director, North Florida District Office, in writing or fax no later than Friday, August 4, 2006, in order to be placed on the agenda. Wilfredo J. Gonzalez, District Director, North Florida District Office, U.S. Small Business Administration, 7825 Baymeadows Way; Suite 100B, Jacksonville, FL 32256; telephone (904) 443-1900; fax (904) 443-1980.

Matthew K. Becker,
Committee Management Officer.

[FR Doc. E6-10871 Filed 7-10-06; 8:45 am]

BILLING CODE 8025-01-P